DEPARTMENT OF TRANSPORTATION

Federal Aviation Administration

14 CFR Part 97

[Docket No. 31401; Amdt. No. 3984]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective December 3, 2021. The compliance date for each SIAP, associated Takeoff Minimums, and ODP is specified in the amendatory provisions.

The incorporation by reference of certain publications listed in the regulations is approved by the Director of the Federal Register as of December 3, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on November 12, 2021.
Thomas J. Nichols,
Flight Standards Service Manager, Aviation Safety, Standards Section, Flight Procedures & Airspace Group, Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * *Effective Upon Publication

AIRAC date | State | City | Airport | FDC No. | FDC date | Subject
30-Dec-21 | AL | Enterprise | Enterprise Muni | 1/0144 | 8/17/21 | RNAV (GPS) RWY 5, Amdt 1A.
30-Dec-21 | AL | Enterprise | Enterprise Muni | 1/0160 | 8/17/21 | VOR RWY 5, Amdt 4A.
30-Dec-21 | NH | Whitefield | Mount Washington Rgnl | 1/0321 | 9/3/21 | RNAV (GPS) Y RWY 10, Orig.
30-Dec-21 | AL | Fayette | Richard Arthur Fld | 1/0444 | 9/3/21 | RNAV (GPS) RWY 1, Amdt 1C.
30-Dec-21 | MO | Farmington | Farmington Rgnl | 1/0498 | 9/9/21 | RNAV (GPS) RWY 20, Orig-A.
30-Dec-21 | AR | Morrilton | Petit Jean Park | 1/0673 | 7/30/21 | RNAV (GPS) RWY 3, Orig.
30-Dec-21 | KY | Danville | Stuart Powell Fld | 1/0681 | 10/28/21 | LOC RWY 30, Amdt 1D.
30-Dec-21 | KY | Danville | Stuart Powell Fld | 1/0683 | 10/28/21 | NDB-A, Amdt 8A.
30-Dec-21 | KY | Danville | Stuart Powell Fld | 1/0684 | 10/28/21 | RNAV (GPS) RWY 30, Orig-A.
30-Dec-21 | NJ | Hammonton | Hammonton Muni | 1/1207 | 9/3/21 | VOR-B, Amdt 2D.
30-Dec-21 | TX | Childress | Childress Muni | 1/1210 | 7/30/21 | RNAV (GPS) RWY 36, Amdt 1A.
30-Dec-21 | TX | Childress | Childress Muni | 1/1211 | 7/30/21 | VOR RWY 36, Amdt 10A.
30-Dec-21 | AZ | Springerville | Springerville Muni | 1/1216 | 7/20/21 | RNAV (GPS) RWY 21, Amdt 1C.
30-Dec-21 | SC | Barnwell | Barnwell Rgnl | 1/1223 | 8/17/21 | RNAV (GPS) RWY 17, Amdt 2A.
30-Dec-21 | SC | Barnwell | Barnwell Rgnl | 1/1224 | 8/17/21 | RNAV (GPS) RWY 35, Orig.
30-Dec-21 | ND | Bottineau | Bottineau Muni | 1/1258 | 7/1/21 | RNAV (GPS) RWY 31, Orig.
30-Dec-21 | SC | Pelion | Lexington County | 1/1749 | 8/16/21 | VOR-A, Amdt 3A.
30-Dec-21 | AL | Ozark | Ozark-Blackwell Fld | 1/1770 | 8/16/21 | RNAV (GPS) RWY 13, Orig-B.
30-Dec-21 | AL | Ozark | Ozark-Blackwell Fld | 1/1771 | 8/16/21 | RNAV (GPS) RWY 31, Orig-B.
30-Dec-21 | AL | Ozark | Ozark-Blackwell Fld | 1/1772 | 8/16/21 | VOR RWY 31, Amdt 7B.
30-Dec-21 | NH | Portsmouth | Portsmouth Intl At Pease | 1/1805 | 11/3/21 | RADAR 1, Amdt 1.
30-Dec-21 | TX | Junction | Kimble County | 1/1811 | 7/30/21 | RNAV (GPS) RWY 17, Orig.
30-Dec-21 | TX | Junction | Kimble County | 1/1812 | 7/30/21 | VOR-A, Amdt 12.
30-Dec-21 | CO | Longmont | Vance Brand | 1/1815 | 7/1/21 | RNAV (GPS)-B, Amdt 1.
30-Dec-21 | CO | Longmont | Vance Brand | 1/1816 | 7/1/21 | VOR/DME-A, Amdt 2A.
30-Dec-21 | MT | Laurel | Laurel Muni | 1/1844 | 11/5/21 | VOR RWY 22, Amdt 2C.
30-Dec-21 | SC | Aiken | Aiken Rgnl | 1/1853 | 11/4/21 | ILS OR LOC/DME RWY 7, Orig-D.
30-Dec-21 | SC | Aiken | Aiken Rgnl | 1/1855 | 11/4/21 | NDB RWY 25, Amdt 10D.
30-Dec-21 | SC | Aiken | Aiken Rgnl | 1/1858 | 11/4/21 | RNAV (GPS) RWY 7, Amdt 1D.
30-Dec-21 | PA | East Stroudsburg | Stroudsburg-Pocono | 1/1913 | 10/28/21 | RNAV (GPS) RWY 8, Orig-A.
30-Dec-21 | NJ | Robbinsville | Trenton-Robbinsville | 1/2194 | 11/8/21 | RNAV (GPS) RWY 11, Orig-B.
30-Dec-21 | NJ | Robbinsville | Trenton-Robbinsville | 1/2195 | 11/8/21 | RNAV (GPS) RWY 29, Amdt 1B.
30-Dec-21 | NJ | Robbinsville | Trenton-Robbinsville | 1/2196 | 11/8/21 | VOR RWY 29, Amdt 11B.
30-Dec-21 | AL | Greenville | Mac Crenshaw Meml | 1/2250 | 9/13/21 | RNAV (GPS) RWY 14, Orig-B.
30-Dec-21 | AL | Greenville | Mac Crenshaw Meml | 1/2252 | 9/13/21 | RNAV (GPS) RWY 32, Orig-B.
30-Dec-21 | TN | Jackson | Mc Kellar-Sipes Rgnl | 1/2503 | 11/3/21 | RNAV (GPS) RWY 20, Orig-A.
30-Dec-21 | MO | Farmington | Farmington Rgnl | 1/2516 | 9/8/21 | RNAV (GPS) RWY 2, Orig-A.
30-Dec-21 | PA | Chambersburg | Franklin County Rgnl | 1/2616 | 8/16/21 | RNAV (GPS) RWY 6, Orig-C.
30-Dec-21 | PA | Chambersburg | Franklin County Rgnl | 1/2617 | 8/16/21 | RNAV (GPS) RWY 24, Orig-C.
30-Dec-21 | PA | Chambersburg | Franklin County Rgnl | 1/2618 | 8/16/21 | VOR/DME-B, Amdt 2A.
30-Dec-21 | NH | Haverhill | Dean Meml | 1/2641 | 9/3/21 | RNAV (GPS) RWY 19, Orig.
30-Dec-21 | IN | North Vernon | North Vernon | 1/2808 | 10/28/21 | RNAV (GPS) RWY 5, Orig-B.
30-Dec-21 | IN | North Vernon | North Vernon | 1/2812 | 10/28/21 | RNAV (GPS) Y RWY 23, Orig.
30-Dec-21 | IL | De Kalb | De Kalb Taylor Muni | 1/2828 | 7/30/21 | RNAV (GPS) RWY 2, Orig-A.
30-Dec-21 | IL | De Kalb | De Kalb Taylor Muni | 1/2829 | 7/30/21 | RNAV (GPS) RWY 20, Orig.
30-Dec-21 | IL | De Kalb | De Kalb Taylor Muni | 1/2830 | 7/30/21 | RNAV (GPS) RWY 27, Amdt 1.
30-Dec-21 | IL | De Kalb | De Kalb Taylor Muni | 1/2831 | 7/30/21 | RNAV (GPS) RWY 9, Amdt 1.
30-Dec-21 | TN | Jackson | Mc Kellar-Sipes Rgnl | 1/2832 | 11/3/21 | RNAV (GPS) RWY 2, Orig-A.
30-Dec-21 | PA | Clearfield | Clearfield-Lawrence | 1/2900 | 11/4/21 | RNAV (GPS) RWY 30, Amdt 1B.
30-Dec-21 | IL | Vandalia | Vandalia Muni | 1/3490 | 10/28/21 | RNAV (GPS) RWY 36, Orig-A.
30-Dec-21 | IL | Vandalia | Vandalia Muni | 1/3497 | 10/28/21 | RNAV (GPS) RWY 18, Orig-A.
30-Dec-21 | WI | Necedah | Necedah | 1/3542 | 10/28/21 | RNAV (GPS) RWY 36, Orig-D.
30-Dec-21 | AL | Brewton | Brewton Muni | 1/3670 | 9/3/21 | VOR/DME RWY 30, Amdt 8A.
30-Dec-21 | MA | Chatham | Chatham Muni | 1/3682 | 8/16/21 | NDB-A, Amdt 1B.
30-Dec-21 | MA | Chatham | Chatham Muni | 1/3684 | 8/16/21 | RNAV (GPS)-B, Orig-B.
30-Dec-21 | OK | Muskogee | Muskogee-Davis Rgnl | 1/3769 | 10/28/21 | RNAV (GPS) RWY 13, Orig-C.
30-Dec-21 | OK | Muskogee | Muskogee-Davis Rgnl | 1/3777 | 10/28/21 | RNAV (GPS) RWY 31, Amdt 1D.
30-Dec-21 | AR | West Memphis | West Memphis Muni | 1/3877 | 9/7/21 | ILS OR LOC RWY 17, Amdt 5B.
30-Dec-21 | AR | West Memphis | West Memphis Muni | 1/3878 | 9/7/21 | RNAV (GPS) RWY 17, Orig-A.
30-Dec-21 | AR | West Memphis | West Memphis Muni | 1/3879 | 9/7/21 | RNAV (GPS) RWY 35, Orig-A.
30-Dec-21 | SC | Aiken | Aiken Rgnl | 1/4010 | 11/4/21 | VOR/DME-A, Amdt 1B.
30-Dec-21 | CA | Porterville | Porterville Muni | 1/4218 | 7/28/21 | VOR OR GPS-A, Amdt 1.
30-Dec-21 | CA | Porterville | Porterville Muni | 1/4222 | 7/28/21 | GPS RWY 30, Orig-A.
30-Dec-21 | CA | Porterville | Porterville Muni | 1/4223 | 7/28/21 | GPS RWY 12, Orig.
30-Dec-21 | MA | Great Barrington | Walter J Koladza | 1/4367 | 9/3/21 | RNAV (GPS)-B, Orig.
30-Dec-21 | IL | Savanna | Tri-Township | 1/4513 | 7/30/21 | RNAV (GPS) RWY 13, Orig-C.
30-Dec-21 | CA | Shafter | Shafter-Minter Fld | 1/4583 | 7/8/21 | VOR-A, Amdt 1.
30-Dec-21 | CA | Shafter | Shafter-Minter Fld | 1/4584 | 7/8/21 | RNAV (GPS) RWY 12, Amdt 1A.
30-Dec-21 | NC | Jacksonville | Albert J Ellis | 1/4875 | 9/3/21 | ILS OR LOC RWY 5, Amdt 9B.
30-Dec-21 | NC | Jacksonville | Albert J Ellis | 1/4876 | 9/3/21 | RNAV (GPS) RWY 23, Orig-A.
30-Dec-21 | PA | Clearfield | Clearfield-Lawrence | 1/4877 | 11/4/21 | VOR RWY 30, Amdt 6A.
30-Dec-21 | NC | Jacksonville | Albert J Ellis | 1/4878 | 9/3/21 | RNAV (GPS) RWY 5, Amdt 1B.
30-Dec-21 | PA | Clearfield | Clearfield-Lawrence | 1/4881 | 11/4/21 | RNAV (GPS) RWY 12, Orig-A.
30-Dec-21 | TX | Mount Pleasant | Mount Pleasant Rgnl | 1/5136 | 7/30/21 | RNAV (GPS) RWY 35, Amdt 1.
30-Dec-21 | FL | Jacksonville | Jacksonville Exec At Craig | 1/5138 | 8/16/21 | ILS OR LOC RWY 32, Amdt 5A.
30-Dec-21 | FL | Jacksonville | Jacksonville Exec At Craig | 1/5140 | 8/16/21 | RNAV (GPS) RWY 14, Amdt 1A.
30-Dec-21 | FL | Jacksonville | Jacksonville Exec At Craig | 1/5141 | 8/16/21 | RNAV (GPS) RWY 32, Amdt 1A.
30-Dec-21 | MN | Hawley | Hawley Muni | 1/5160 | 7/30/21 | RNAV (GPS) RWY 34, Orig-A.
30-Dec-21 | MN | Hawley | Hawley Muni | 1/5162 | 7/30/21 | VOR/DME-A, Amdt 2A.
30-Dec-21 | TX | Caldwell | Caldwell Muni | 1/5169 | 7/30/21 | RNAV (GPS) RWY 33, Orig-B.
30-Dec-21 | TX | Caldwell | Caldwell Muni | 1/5170 | 7/30/21 | RNAV (GPS) RWY 15, Orig-A.
30-Dec-21 | TX | Caldwell | Caldwell Muni | 1/5174 | 7/30/21 | VOR/DME-A, Amdt 3.
30-Dec-21 | IN | Angola | Tri-State Steuben County | 1/5495 | 10/21/21 | RNAV (GPS) RWY 23, Orig-E.
30-Dec-21 | AR | Morrilton | Morrilton Muni | 1/5515 | 10/20/21 | RNAV (GPS) RWY 27, Orig-A.
30-Dec-21 | FL | Cross City | Cross City | 1/5745 | 8/16/21 | RNAV (GPS)-B, Orig-A.
30-Dec-21 | FL | Cross City | Cross City | 1/5746 | 8/16/21 | RNAV (GPS)-A, Orig-A.
30-Dec-21 | FL | Cross City | Cross City | 1/5747 | 8/16/21 | VOR RWY 31, Amdt 19A.
30-Dec-21 | AR | Paragould | Kirk Fld | 1/5869 | 9/3/21 | VOR RWY 4, Amdt 5A.
30-Dec-21 | VA | Norfolk | Chesapeake Rgnl | 1/5946 | 8/16/21 | ILS OR LOC RWY 5, Amdt 1B.
30-Dec-21 | VA | Norfolk | Chesapeake Rgnl | 1/5947 | 8/16/21 | RNAV (GPS) RWY 5, Amdt 1B.
30-Dec-21 | MI | Alma | Gratiot Community | 1/5994 | 9/7/21 | VOR RWY 18, Amdt 1B.
30-Dec-21 | OK | Muskogee | Muskogee-Davis Rgnl | 1/6586 | 10/28/21 | RNAV (GPS) RWY 22, Orig-C.
30-Dec-21 | FL | Palm Coast | Flagler Exec | 1/6694 | 11/3/21 | RNAV (GPS) RWY 6, Amdt 2A.
30-Dec-21 | IA | Hampton | Hampton Muni | 1/6841 | 10/27/21 | VOR/DME RWY 35, Amdt 1F.
30-Dec-21 | MI | Frankfort | Frankfort Dow Meml Fld | 1/6884 | 9/7/21 | RNAV (GPS) RWY 33, Amdt 1A.
30-Dec-21 | IL | De Kalb | De Kalb Taylor Muni | 1/6890 | 9/7/21 | ILS OR LOC RWY 2, Orig-E.
30-Dec-21 | MI | Mount Pleasant | Mount Pleasant Muni | 1/7017 | 10/8/21 | VOR RWY 27, Amdt 1B.
30-Dec-21 | KS | Benton | Lloyd Stearman Fld | 1/7440 | 8/16/21 | RNAV (GPS) RWY 17, Orig-A.
30-Dec-21 | WV | Pineville | Kee Fld | 1/7445 | 9/9/21 | RNAV (GPS) RWY 26, Orig-C.
30-Dec-21 | WV | Pineville | Kee Fld | 1/7446 | 9/9/21 | RNAV (GPS) RWY 8, Orig-C.
30-Dec-21 | OH | Elyria | Elyria | 1/7497 | 9/14/21 | VOR OR GPS-A, Amdt 7C.
30-Dec-21 | WI | Sparta | Sparta/Fort Mc Coy | 1/7686 | 7/30/21 | RNAV (GPS) RWY 11, Amdt 1A.
30-Dec-21 | WI | Sparta | Sparta/Fort Mc Coy | 1/7687 | 7/30/21 | NDB RWY 29, Amdt 4A.
30-Dec-21 | WI | Sparta | Sparta/Fort Mc Coy | 1/7688 | 7/30/21 | RNAV (GPS) RWY 29, Amdt 1A.
30-Dec-21 | NH | Claremont | Claremont Muni | 1/7703 | 11/3/21 | NDB-A, Amdt 1C.
30-Dec-21 | NH | Claremont | Claremont Muni | 1/7704 | 11/3/21 | RNAV (GPS) RWY 29, Orig-B.
30-Dec-21 | WY | Saratoga | Shively Fld | 1/7911 | 11/5/21 | RNAV (GPS)-B, Orig-B.
30-Dec-21 | WY | Saratoga | Shively Fld | 1/7914 | 11/5/21 | RNAV (GPS) RWY 5, Orig-C.
30-Dec-21 | MI | Beaver Island | Beaver Island | 1/7987 | 8/16/21 | RNAV (GPS) RWY 27, Orig-A.
30-Dec-21 | WY | Saratoga | Shively Fld | 1/8391 | 11/5/21 | NDB-A, Amdt 1B.
30-Dec-21 | NY | Poughkeepsie | Hudson Valley Rgnl | 1/8475 | 9/3/21 | ILS OR LOC RWY 6, Amdt 6E.
30-Dec-21 | NY | Poughkeepsie | Hudson Valley Rgnl | 1/8476 | 9/3/21 | RNAV (GPS) RWY 6, Orig-E.
30-Dec-21 | NY | Poughkeepsie | Hudson Valley Rgnl | 1/8477 | 9/3/21 | RNAV (GPS) RWY 24, Orig-E.
30-Dec-21 | NY | Poughkeepsie | Hudson Valley Rgnl | 1/8478 | 9/3/21 | VOR RWY 24, Amdt 4F.
30-Dec-21 | NY | Poughkeepsie | Hudson Valley Rgnl | 1/8479 | 9/3/21 | VOR-A, Amdt 11E.
30-Dec-21 | FL | Bartow | Bartow Exec | 1/8480 | 9/17/21 | VOR RWY 09L, Amdt 2F.
30-Dec-21 | CA | Ukiah | Ukiah Muni | 1/8529 | 7/19/21 | RNAV (GPS)-B, Orig.
30-Dec-21 | CA | Ukiah | Ukiah Muni | 1/8530 | 7/19/21 | LOC RWY 15, Amdt 5C.
30-Dec-21 | CA | Ukiah | Ukiah Muni | 1/8532 | 7/19/21 | VOR-A, Amdt 4.
30-Dec-21 | KS | Wichita | Colonel James Jabara | 1/8668 | 8/16/21 | ILS OR LOC RWY 18. Orig-B.
30-Dec-21 | KS | Wichita | Colonel James Jabara | 1/8669 | 8/16/21 | RNAV (GPS) RWY 18, Orig-C.
30-Dec-21 | KS | Wichita | Colonel James Jabara | 1/8670 | 8/16/21 | RNAV (GPS) RWY 36, Orig-B.
30-Dec-21 | KS | Wichita | Colonel James Jabara | 1/8671 | 8/16/21 | RNAV (GPS)-E, Orig-A.
30-Dec-21 | NY | Montgomery | Orange County | 1/8691 | 9/3/21 | ILS OR LOC RWY 4, Orig.
30-Dec-21 | NC | Louisburg | Triangle North Exec | 1/8907 | 10/29/21 | VOR-A, Amdt 2D.
30-Dec-21 | NC | Louisburg | Triangle North Exec | 1/8908 | 10/29/21 | RNAV (GPS) RWY 23, Amdt 1A.
30-Dec-21 | NC | Louisburg | Triangle North Exec | 1/8909 | 10/29/21 | RNAV (GPS) RWY 5, Amdt 1A.
30-Dec-21 | NC | Louisburg | Triangle North Exec | 1/8910 | 10/29/21 | ILS OR LOC RWY 5, Amdt 4B.
30-Dec-21 | FL | Vero Beach | Vero Beach Rgnl | 1/8935 | 11/4/21 | RNAV (GPS) RWY 4, Amdt 1C.
30-Dec-21 | FL | Vero Beach | Vero Beach Rgnl | 1/8936 | 11/4/21 | RNAV (GPS) RWY 12R, Amdt 2C.
30-Dec-21 | FL | Vero Beach | Vero Beach Rgnl | 1/8937 | 11/4/21 | RNAV (GPS) RWY 22, Amdt 1C.
30-Dec-21 | FL | Vero Beach | Vero Beach Rgnl | 1/8938 | 11/4/21 | RNAV (GPS) RWY 30L, Amdt 2C.
30-Dec-21 | FL | Vero Beach | Vero Beach Rgnl | 1/8939 | 11/4/21 | VOR RWY 12R, Amdt 14D.
30-Dec-21 | FL | Vero Beach | Vero Beach Rgnl | 1/8940 | 11/4/21 | VOR RWY 30L, Amdt 4C.
30-Dec-21 | OK | Tahlequah | Tahlequah Muni | 1/9347 | 11/3/21 | RNAV (GPS) RWY 17, Amdt 1.
30-Dec-21 | OK | Tahlequah | Tahlequah Muni | 1/9349 | 11/3/21 | RNAV (GPS) RWY 35, Amdt 1A.
30-Dec-21 | IN | Shelbyville | Shelbyville Muni | 1/9553 | 7/30/21 | RNAV (GPS) RWY 19, Amdt 1C.
30-Dec-21 | IN | Shelbyville | Shelbyville Muni | 1/9554 | 7/30/21 | RNAV (GPS) RWY 1, Amdt 1B.
30-Dec-21 | IN | Shelbyville | Shelbyville Muni | 1/9555 | 7/30/21 | VOR RWY 19, Amdt 1B.
30-Dec-21 | NE | Hastings | Hastings Muni | 1/9563 | 11/4/21 | VOR RWY 32, Amdt 14A.

[FR Doc. 2021-26283 Filed 12-2-21; 8:45 am]

BILLING CODE 4910-13-P